DEPARTMENT OF EDUCATION

[CFDA No. 84.361]

Office of Elementary and Secondary Education; Voluntary Public School Choice Program; Notice Inviting Applications for New Awards for Fiscal Year (FY) 2002

Purpose of Program: This program provides grants to eligible applicants to assist them in establishing or expanding a program of voluntary public school choice in order to provide parents, particularly parents whose children attend low-performing schools, with greater choice in their children's education.

Eligible Applicants: (a) One or more State educational agencies (SEAs); (b) one or more local educational agencies (LEAs); (c) one or more SEAs in partnership with one or more LEAs or other public, for-profit, or non-profit entities; or (d) one or more LEAs in partnership with one or more public, for-profit, or non-profit entities.

Applications Available: July 5, 2002.

Deadline for Transmittal of Applications: August 19, 2002

Deadline for Intergovernmental Review: September 18, 2002.

Estimated Available Funds: $25,000,000.

Estimated Range of Awards: $2,500,000-$5,000,000 per year.

Estimated Average Size of Awards: $3,750,000 per year.

Estimated Number of Awards: 5-10.

Note: These estimates are for the guidance of potential applicants. The Department is not bound by any estimates in this notice.

Project Period: Up to five years.

Note: Not more than 12 months may be used to plan and design a program.

E-Mail Notification of Intent to Apply for Funding: The Department will be able to develop a more efficient process for reviewing grant applications if it has a better understanding of the number of entities that intend to apply for funding under this competition. Therefore, the Secretary strongly encourages each potential applicant for this program to notify the Department by e-mail that it intends to submit an application for funding. The Secretary requests that this e-mail notification be sent no later than August 5, 2002. The e-mail notification should be sent to Ms. Iris Lane at Iris.Lane@ed.gov. Applicants that fail to provide this e-mail notification still may apply for funding.

Page Limits: The Program Narrative (Part IV of the application) is where you, the applicant, address the selection criteria that reviewers use to evaluate your application. You must limit Part IV to the equivalent of no more than 50 pages, using the following standards:

• A “page” is 8.5″ × 11″, on one side only, with 1″ margins at the top, bottom, and on both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the table of contents; Part III, the project abstract and application requirements; Part V, the budget section, including the narrative budget justification; part VI, the assurances and certifications; or Part VII, the proof of eligibility. However, you must include all of the program narrative in Part IV.

Our reviewers will not read any pages of your application that—

• Exceed the page limit if you apply these standards; or

• Exceed the equivalent of the page limit if you apply other standards.

Applicable Regulations and Statute: (a) The Education Department General Administrative Regulations (EDGAR) in 34 CFR parts 74, 75, 77, 79, 80, 82, 85, 86, 86, 97, 98, and 99. (b) Title V, Part B, Subpart 3 of the Elementary and Secondary Education Act of 1965 (ESEA), as amended by the No Child Left Behind Act of 2001, 20 U.S.C. 7225-7225g.

Waiver of Proposed Rulemaking: In accordance with the Administrative Procedure Act (5 U.S.C. 553), it is the practice of the Secretary to offer interested parties the opportunity to comment on proposed rules. Ordinarily, this practice might have applied to one or more of the priorities and requirements in this notice. Section 437(d)(1) of the General Education Provisions Act (GEPA), however, exempts rules that apply to the first competition under a new or substantially revised program from this requirement. Because this competition is the first Voluntary Public School Choice program competition under the newly reauthorized ESEA, it qualifies as a new competitive grant program and is exempt from notice and comment rulemaking. The Secretary, in accordance with section 437(d)(1) of GEPA, to ensure timely awards, has decided to forego public comment. This notice applies to the FY 2002 competition only.

Application Requirements: An application submitted to the Secretary must include the following:

(1) A description of the program for which the eligible entity seeks funds and the goals for the program;

(2) A description of how and when parents of students in the area to be served by the program will be notified of the existence of the program and of the program's availability, and provided a clear explanation of how the program will operate, as required under section 5245(a)(2) of the ESEA;

(3) A description of how students will be selected for the program;

(4) A description of how the program will be coordinated with, and will complement and enhance, other related Federal and non-Federal programs administered by the applicant or applicants;

(5) If the program is to be carried out by a partnership, the name of each partner and a description of the partner's responsibilities; and

(6) A description of the information collection that the applicant plans to conduct in order to meet the requirements of 34 CFR 75.590 and to participate in any evaluation of the program that the Secretary conducts under section 5246(b) of the ESEA. Section 75.590 requires the recipient of an award to evaluate at least annually its progress in meeting the purposes of the program, and the effect of the program on the participants in the project. Section 5246(b) of the ESEA authorizes the Secretary to conduct evaluations that examine, among other things, how, and the extent to which, projects promote educational equity and excellence; the characteristics of students participating in projects; and the effect of projects on academic achievement of students participating in the projects, including students who move from school improvement under section 1116 of the ESEA to schools not so identified.

Note: The application requirements described above must be addressed in the Project Abstract and Application Requirements section (Part III) of your application.

Priority Points: Under 34 CFR 75.105(c)(2) of the Education Department General Administrative Regulations, the Secretary will award a maximum of up to 5 priority points for each criterion the applicant meets, and a maximum of up to 15 priority points for applications that meet all of the following criteria:

(a) Wide Variety of Choices (up to 5 points). The project would provide a wide variety of choices to all students in participating schools. In determining whether a proposed project would provide a wide variety of choices, the Department will consider, among other things, the characteristics of the school district. For example, a wide variety of choices in a small rural district may differ from a wide variety of choices in a large urban school district.

(b) Substantial Impact on Students in Low-Performing Schools (up to 5 points). The project would, through various choice options, have a substantial impact in allowing students in low-performing schools to attend higher-performing schools. In determining whether a proposed project would have a substantial impact in allowing students in low-performing schools to attend higher-performing schools, the Department will consider, among other things, the percentage of students in low-performing schools who would be able to attend higher-performing schools under the jurisdiction of the applicant(s).

Note: The term “low-performing school” means a public elementary or secondary school that has failed to make adequate yearly progress, as described in section 1111(b) of the ESEA, for two or more consecutive years.

(c) Partnership/Interdistrict Approach (up to 5 points). The project would establish a partnership that implements an interdistrict approach to carrying out a public school choice program.

These priorities are specified in the authorizing statute for the program (see section 5244 of the ESEA). The priority points are in addition to any points the applicant earns under the selection criteria listed below. The Secretary may select an application that meets a priority over an application of comparable merit that does not meet the priority. The maximum number of points an application may earn based on the priority points and the selection criteria is 115 points.

Selection Criteria: The Secretary will use the selection criteria in 34 CFR 75.210 and selection criteria based on statutory provisions to evaluate applications for new grants under this competition. The maximum possible score for all of the selection criteria is 100 points. The maximum score for each criterion is indicated in parenthesis with the criterion. The criteria are as follows:

(a) Need for the Project (up to 100 points). The Secretary considers the need for the proposed project. In determining the need for the proposed project, the Secretary considers the magnitude of the need for the services to be provided or the activities to be carried out by the proposed project.

(b) Significance (up to 15 points). The Secretary considers the significance of the proposed project. In determining the significance of the proposed project, the Secretary considers the following factors:

(1) The likelihood that the proposed project will result in system change or improvement.

(2) The extent to which the proposed project is likely to build local capacity to provide, improve, or expand services (i.e., choice options) that address the needs of the target population.

(3) The potential replicability of the proposed project or strategies, including, as appropriate, the potential for implementation in a variety of settings.

(c) Quality of Project Design). (up to 40 points). The Secretary considers the quality of the design of the proposed project. In determining the quality of the design of the proposed project, the Secretary considers the following factors:

(1) The extent to which the proposed project encourages parental involvement and ensures that parents have high-quality information about their choices.

(2) The extent to which the goals, objectives, and outcomes to be achieved by the proposed project are clearly specified and measurable.

(3) The extend to which the design for implementing and evaluating the proposed project will result in information to guide possible replication of project activities or strategies, including information about

Permissible Uses of Funds

An eligible entity that receives a grant under this subpart may use the grant funds for—

(a) Planning or designing a program (for not more than 1 year);

(b) The cost of making tuition transfer payments to public elementary schools or secondary schools to which students transfer under the program.

(c) The cost of capacity-enhancing activities that enable high-demand public elementary schools or secondary schools to accommodate transfer requests under the program;

(d) The cost of carrying out public education campaigns to inform students and parents about the program; and

(e) Other costs that are reasonably necessary to implement the program.

Nonpermissible Use of Funds

An eligible entity that receives a grant under this program may not use the grant funds for school construction.

Parent and Community Involvement and Notice

In carrying out a project under this program, an eligible entity must—

(1) Develop the project with (a) the involvement of parents and others in the community to be served; and (b) individuals who will carry out the program, including administrators, teachers, principals, and other staff; and

(2) Provide to parents of students in the area to be served by the program with prompt notice of (a) the existence of the program; (b) the program's availability; and (c) a clear explanation of how the program will operate.

Selection of Students by Lottery

An eligible entity that receives a grant under this program must select students to participate in its public school choice program on the basis of a lottery, if more students apply for admission to the program than can be accommodated.

Note: For purposes of this program, a lottery is defined as a random selection process through which applicants for admission to a participating public school are admitted to the school.

Voluntary Participation

Student participation in a project funded under this program must be voluntary.

For Applications or Information Contact: Iris A. Lane, U.S. Department of Education, 400 Maryland Avenue, SW., Room 3C156, Washington, DC 20202-6140. Telephone: (202) 260-1999. Inquiries may also be sent by e-mail to: Iris.Lane@ed.gov

Or by FAX to: (202) 205-5630. The Department intends to offer prospective applicants further information about the program and assistance in preparing applications at the following Internet site: http://www.ed.gov/GrantApps/#84.361

Individuals who use a telecommunications device for the deaf (TDD) may call the Federal Information Relay Service (FIRS) at 1-800-877-8339.

Individuals with disabilities may obtain this document in an alternative format (e.g., Braille, large print, audiotape, or computer diskette) upon request to the contact person listed in the preceding paragraph. Individuals with disabilities may obtain a copy of the application package in an alternative format, also, by contacting that person. However, the Department is not able to reproduce in an alternative format the standard forms included in the application package.

Electronic Access to This Document

You may view this document, as well as all other Department of Education documents published in the Federal Register, in text or Adobe Portable Document format (PDF) on the Internet at the following site: www.ed.gov/legislation/FedRegister

To use PDF, you must have Adobe Acrobat Reader, which is available free at this site. If you have questions about using PDF, call the U.S. Government Printing Office (GPO) toll free at 1-888-293-6498; or in the Washington, DC area at (202) 512-1530.

Note: The official version of a document is the document published in the Federal Register. Free Internet access to the official edition of the Federal Register and the Code of Federal Regulations is available on GPO Access at: http://www.access.gpo.gov/nara/index.html

Program Authority: 20 U.S.C. 7225-7225g.

Dated: July 1, 2002.
Susan B. Neuman,
Assistant Secretary for Elementary and Secondary Education.

[FR Doc. 02-16889 Filed 7-3-02; 8:45 am]

BILLING CODE 4000-01-U